DEPARTMENT OF HEALTH AND HUMAN SERVICES

National Institutes of Health

Center for Scientific Review; Amended Notice of Meeting

Notice is hereby given of a change in the meeting of the Macromolecular Structure and Function E Study Section, October 1, 2013, 08:00 a.m. to October 2, 2013, 05:00 p.m., St. Gregory Hotel, 2033 M Street NW., Washington, DC 20036 which was published in the Federal Register on September 05, 2013, 78 FR 54665.

The meeting will be held at the National Institutes of Health, 6701 Rockledge Drive, Bethesda, MD 20892. The meeting will start on October 23, 2013 at 09:00 a.m. and end on November 5, 2013 at 05:00 p.m. The meeting is closed to the public.

Dated: October 25, 2013.
Anna Snouffer,
Deputy Director, Office of Federal Advisory Committee Policy.

[FR Doc. 2013-25881 Filed 10-30-13; 8:45 am]

BILLING CODE 4140-01-P